DEPARTMENT OF THE TREASURY

Submission for OMB Review; Comment Request

July 20, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW, Washington, D.C. 20220.

DATES: Written comments should be received on or before August 27, 2001, to be assured of consideration.

Bureau of Engraving and Printing (BEP)

OMB Number: New.

Form Number: None.

Type of Review: New collection.

Title: Public Awareness of New Currency Design Feature Focus Groups.

Description: Since 1996, the Bureau of Engraving and Printing (BEP) has been producing Series 1996 Federal Reserve Notes based on a new design with counterfeit deterrence features intended to better enable the general public to recognize genuine currency and distinguish it from counterfeits. BEP is preparing to release the next generation of currency, and is again initiating a new design effort. To aid in effective selection of counterfeit deterrence features for the next design, the BEP is sponsoring a study to assess how well the features in the series 1996 design have worked by evaluating how knowledgeable the public is of the new currency.

Respondents: Individuals or households.

Estimated Number of Respondents: 120.

Estimated Burden Hours Per Response: 2 hours, 67 minutes.

Frequency of Response: Other (one time).

Estimated Total Reporting Burden: 320 hours.

Clearance Officer: Pam Corsini (202) 874-2647 Bureau of Engraving and Printing, Room 3.2.C, Engraving and Printing Annex, 14th and C Streets, SW., Washington, DC 20228.

OMB Reviewer: Alexander T. Hunt (202) 395-7860, Office of Management and Budget, Room 10202, New Executive Office Building, Washington, DC 20503.

Lois K. Holland,
Departmental Reports Management Officer.

[FR Doc. 01-18701 Filed 7-26-01; 8:45 am]

BILLING CODE 4840-01-U